DEPARTMENT OF LABOR

Employment and Training Administration

[TA-W-57,101]

Gaylord Inland, Dallas, TX; Notice of Termination of Investigation

Pursuant to Section 221 of the Trade Act of 1974, as amended, an investigation was initiated on May 4, 2005 in response to a worker petition filed by a State agency representative on behalf of workers at Gaylord Inland, Dallas, Texas.

All workers were separated from the subject firm more than one year before the date of the petition. Section 223(b) of the Act specifies that no certification may apply to any worker whose last separation occurred more than one year before the date of the petition. Consequently, further investigation in this case would serve no purpose, and the investigation has been terminated.

Signed at Washington, DC this 6th day of May 2005.
Richard Church,
Certifying Officer, Division of Trade Adjustment Assistance.

[FR Doc. E5-2522 Filed 5-18-05; 8:45 am]

BILLING CODE 4510-30-P